DEPARTMENT OF AGRICULTURE

U.S. Codex Office

Codex Alimentarius Commission: Meeting of the Codex Committee on Fresh Fruits and Vegetables

AGENCY: U.S. Codex Office, USDA.

ACTION: Notice of public meeting and request for comments.

SUMMARY: The U.S Codex Office is sponsoring a public meeting on September 12, 2019. The objective of the public meeting is to provide information and receive public comments on agenda items and draft United States (U.S.) positions to be discussed at the 21st Session of the Codex Committee on Fresh Fruits and Vegetables (CCFFV) of the Codex Alimentarius Commission, in Monterrey, Nuevo Leon, Mexico, October 7-11, 2019. The U.S. Manager for Codex Alimentarius and the Under Secretary for Trade and Foreign Agricultural Affairs recognize the importance of providing interested parties the opportunity to obtain background information on the 21st Session of the CCFFV and to address items on the agenda.

DATES: The public meeting is scheduled for September 12, 2019, from 10:00 a.m.-12:00 p.m. EDT.

ADDRESSES: The public meeting will take place in Meeting Room 2-L285 of the Whitten Building, 1400 Independence Ave. SW, Washington, DC 20250. Documents related to the 21st Session of the CCFFV will be accessible via the internet at the following address: http://www.fao.org/fao-who-odexalimentarius/meetings/en/.

Mr. Dorian LaFond, U.S. Delegate to the 21st Session of the CCFFV, invites U.S. interested parties to submit their comments electronically to the following email address: dorian.lafond@usda.gov.

Call-In-Number: If you wish to participate in the public meeting for the 21st Session of the CCFFV by conference call, please use the call-in-number: 888-844-9904 and participant code 5126092.

Registration: Attendees may register to attend the public meeting by emailing uscodex@usda.gov by September 10, 2019. Early registration is encouraged because it will expedite entry into the building. The meeting will take place in a Federal building. Attendees should bring photo identification and plan for adequate time to pass through the security screening systems. Attendees who are not able to attend the meeting in person, but who wish to participate, may do so by phone, as discussed above.

For Further Information about the 21st Session of the CCFFV, contact U.S. Delegate, Mr. Dorian LaFond, International Food Standards Coordinator, Fruits and Vegetables Program, Specialty Crops Division, Agricultural Marketing Service, U.S. Department of Agriculture, 1400 Independence Avenue SW, Mail Stop 0247, Washington, DC 20250, Phone: +1 (202) 690-4944, Email: dorian.lafond@usda.gov.

For Further Information about the public meeting Contact: U.S. Codex Office, 1400 Independence Avenue SW, Room 4861, South Agriculture Building, Washington, DC 20250. Phone 202 720 7760, Fax: (202) 720-3157, Email: uscodex@usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade. The Terms of Reference of the Codex Committee on Fresh Fruits and Vegetables (CCFFV) are:

a. To elaborate worldwide standards and codes of practice as may be appropriate for fresh fruits and vegetables

b. to consult, as necessary, with other international organizations in the standards development to avoid duplication

The CCFFV is hosted by Mexico. The United States attends the CCFFV as a member country of Codex.

Issues To Be Discussed at the Public Meeting

The following items on the Agenda for the 21st Session of the CCFFV will be discussed during the public meeting:

• Matters arising from the Codex Alimentarius Commission and other committees

• Draft Standard for Kiwifruit: tolerance for decay

• Draft Standard for Garlic

• Proposed Draft Standard for Ware Potatoes

• Proposed Draft Standard for Fresh Dates

• Proposed Draft Standard for Yams

• Proposed Draft Standard for Onions and Shallots

• Proposed Draft Standard for Berry Fruits

• Discussion Paper on glossary terms used in the layout for Codex standards for fruits and vegetables

• Other business

Public Meeting

At the September 12, 2019, public meeting, draft U.S. positions on the agenda items will be described and discussed, and attendees will have the opportunity to pose questions and offer comments. Written comments may be offered at the meeting or sent to Mr. Dorian LaFond, U.S. Delegate for the 21st Session of the CCFFV (see ADDRESSES). Written comments should state that they relate to activities of the 21st Session of the CCFFV.

Additional Public Notification

Public awareness of all segments of rulemaking and policy development is important. Consequently, the U.S. Codex Office will announce this Federal Register publication on-line through the USDA web page located at: http://www.usda.gov/codex, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on August 21, 2019.
Mary Lowe,
U.S. Manager for Codex Alimentarius.

[FR Doc. 2019-18875 Filed 8-30-19; 8:45 am]

BILLING CODE P